DEPARTMENT OF JUSTICE

Notice of Lodging of Partial Consent Decree Under the Comprehensive Environmental Response, Compensation and Liability Act

Under 28 CFR 50.7, notice is hereby given that on April 11, 2006, a proposed Partial Consent Decree in Crane Co., et al. v. United States, Civil Action Nos. CIV-03-2226-PHX-ROS and CIV-04-1400-PHX-ROS (consolidated) was lodged with the United States District Court for the District of Arizona.

The Partial Consent Decree settles claims under the Comprehensive Environmental Response, Compensation, and Liability Act, 42 U.S.C. 9206 and 9207, in connection with the northern portion of the Phoenix-Goodyear Airport Area Superfund Site in Goodyear, Arizona. Under the Partial Consent Decree the defendants will conduct all necessary investigatory and remedial activities at the Site, pay $6.7 million to reimburse the United States for its past costs, pay future response costs, perform a supplemental environmental project valued at $1 million, and pay a civil penalty of $500,000.

The Department of Justice will receive for a period of thirty (30) days from the date of this publication comments relating to the Partial Consent Decree. Comments should be addressed to the Assistant Attorney General, Environment and Natural Resources Division, P.O. Box 7611, U.S. Department of Justice, Washington, DC 20044-7611, and should refer to Crane Co., et al. v. United States, D.J. Ref. 90-11-2-248/1.

The Partial Consent Decree may be examined at U.S. EPA Region IX, Office of Regional Counsel, 75 Hawthorne Street, San Francisco, CA 94105. During the public comment period, the Partial Consent Decree may also be examined on the following Department of Justice Web site, http://www.usdoj.gov/enrd/open.html. A copy of the Partial Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $139.00 (25 cents per page reproduction cost) payable to the U.S. Treasury.

Henry S. Friedman,
Assistant Chief, Environmental Enforcement Section, Environment and Natural Resources Division.

[FR Doc. 06-3940 Filed 4-25-06; 8:45 am]

BILLING CODE 4410-15-M